DEPARTMENT OF TRANSPORTATION

Federal Aviation Administration

[Docket No. FAA-2016-2612]

Petition for Authorization To Exceed Mach 1; Summary of Petition Received; The Boeing Company

AGENCY: Federal Aviation Administration (FAA), DOT.

ACTION: Notice of request for an authorization to exceed Mach 1.

SUMMARY: This notice summarizes a petition received by the FAA requesting a special flight authorization as described in FAA regulations. The FAA is not requesting comments because a special flight authorization petition to exceed Mach 1 follows a separate regulatory process.

FOR FURTHER INFORMATION CONTACT: Rebecca Cointin, Office of Environment and Energy, Noise Division (AEE-100), Federal Aviation Administration, 800 Independence Avenue SW., Washington, DC 20591. Telephone: (202) 267-4770.

This notice is published pursuant to 14 CFR 91.817.

Issued in Washington, DC, on February 3, 2016.
Curtis Holsclaw.
Deputy Director, Office of Environment and Energy.

Petition for Authorization To Exceed Mach 1

Docket No.: FAA-2016-2612.

Petitioner: The Boeing Company.

Section of 14 CFR Affected: 91.817, and Appendix B to Part 91.

Description of Authorization Sought: The requested authorization seeks to allow the petitioner time-limited and conditional flight operations that exceed Mach 1 for a specified duration and location. Title 14 of the Code of Federal Regulations (14 CFR) part 91, Subpart I—Operating Noise Limits, addresses civil aircraft-generated sonic boom in § 91.817. An operator must comply with the flight conditions and limitations designated by the FAA in any authorization to exceed Mach 1 issued under appendix B to part 91. The petitioner is requesting that it be allowed to conduct flight test operations of civil F-15 fighter aircraft over a portion of the Kansas City Air Route Traffic Control Center (ARTCC) airspace that it has used when it operated supersonic aircraft in support of U.S. Department of Defense flights (conducted as public aircraft operations). The region of operation proposed by the petitioner extends approximately 200 miles west from St. Louis, Missouri (excluding the airspace within 50 nautical miles of St. Louis airport) and terminates laterally to the north and south approximately 50 miles inside the Missouri border with neighboring states. Supersonic flight operations above Mach 1 are proposed to be limited to 5 minutes in duration and to occur above 37,000 feet altitude. Proposed operations are for one airplane flown per month, with a total of 8 airplanes to be operated. The petitioner has requested that operations begin in early 2016. The FAA is not requesting comments because Appendix B of § 91.817 contains its own process to submit a special flight authorization petition to exceed Mach 1 which the FAA will follow. Neither publication of this notice nor the inclusion or omission of information in the summary is intended to affect the legal status of any petition or its final disposition.

[FR Doc. 2016-03003 Filed 2-12-16; 8:45 am]

BILLING CODE 4910-13-P